DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: U.S. Environmental Technologies Business Development Mission to IFAT (Internationale Fachausstellung fuer Abwasser Technologie)—May 8-15, 2024. A summary of the mission is found below. Application information and more detailed mission information, including the commercial setting and sector information, can be found at the trade mission website: https://www.trade.gov/trade-missions. For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington, DC 20230; telephone: (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department of Commerce may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify and agree to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

Balance of company size and location may also be considered during the review process. Referrals from a political party or partisan political group or any information, including on the application, containing references to political contributions or other partisan political activities will be excluded from the application and will not be considered during the selection process. The sender will be notified of these exclusions. The Department of Commerce will evaluate applications and inform applicants of selection decisions on a rolling basis until the maximum number of participants has been selected.

Definition of Small- and Medium-Sized Enterprise

For purposes of assessing participation fees, an applicant is a small or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

U.S. Environmental Technologies Business Development Mission to IFAT—May 8-15, 2024

Summary

The United States Department of Commerce, International Trade Administration (ITA), is organizing an Environmental Technologies Business Development Mission to the IFAT environmental technologies trade show in Munich, Germany, from May 13-15, 2024, with an optional program to the Czech Republic and Slovakia from May 8-10, 2024.

The U.S. Environmental Technologies Trade Mission to IFAT will promote U.S. exports in a range of environmental technology industries, including water and wastewater management, solid waste management and recycling, and air pollution monitoring and control. The trade mission will take place directly preceding and alongside the IFAT trade show in Munich, Germany—the largest trade show in the world for environmental technologies. The trade mission will introduce participants to commercial opportunities in the region and connect them with prospective partners, distributors, service providers, end-users, and foreign government decision makers who are seeking U.S. environmental solutions. Participating in an official U.S. industry delegation, rather than traveling to IFAT individually, will enhance the participants' ability to secure key business and government meetings where applicable and to promote their goods and services to a wider, more targeted, audience.

Participation in the trade mission will include entrance tickets to IFAT for one delegate from each participating company and tailored assistance to help delegates connect with participating international buyers from across Europe and other foreign markets. IFAT presents a unique opportunity for participants to learn more about the European market, gain awareness of trends and innovation in the environmental technologies sector, and meet with prospective business partners and customers from across the globe. IFAT is a large show, with 18 exhibition halls, an outside live demonstration area, thematic solutions tours centered around specific technologies and topics, and a start-up area to spotlight innovative technologies. In 2022, the show attracted 119,000 visitors from 155 countries and regions and hosted nearly 3,000 exhibitors. The show also includes a robust conference program, and along with its innovation spotlights and live demonstrations, is a leading venue in showcasing the latest trends and emerging issues in the environmental technologies sector. Trade mission participants will receive assistance in tailoring a schedule that will allow them to target the components of the show that are of most interest to them and connect with potential business partners in various markets in Europe. Participants will also be able to participate in exclusive trade mission programming such as networking receptions, briefings with U.S. Embassy staff, promotional events, and ad-hoc meetings with potential business partners on the show floor.

The trade mission will include an optional program to Slovakia and the Czech Republic the week before IFAT for participants interested in exploring opportunities in those markets via business-to-business matchmaking meetings and meetings with relevant public sector entities to learn about commercial opportunities in water, wastewater treatment, solid waste management and recycling, and air pollution monitoring and control. According to Environment Business International, the European market for environmental goods and services was valued at $387 billion in 2022.

Best Prospects

The below list, while not exhaustive, identifies key products, services, and technologies that would be an appropriate fit for the trade mission. ITA is committed to assembling a trade mission delegation that is representative of a broad range of environmental technology sectors.

• Water and wastewater treatment equipment and services

• Waste management & recycling equipment and services

• Hazardous waste management

• Environmental remediation

• Environmental monitoring & instrumentation

• Waste-to-energy solutions

• Digital solutions for wastewater treatment, solid waste management, and other environmental systems

• Air pollution monitoring and control technologies

• Coastal and flood protection

Other Products and Services

Applications from companies exporting products or services within the scope of this mission, but not specifically identified, will be considered and evaluated by the U.S. Department of Commerce. Companies whose products or services do not fit the scope of the mission may contact their local U.S. Commercial Service office to learn about other business development missions and services that may provide more targeted export opportunities. Companies may visit https://www.trade.gov/contact-us to obtain such information. This information also may be found on the website: https://www.trade.gov/.

Proposed Timetable

* Note: The final schedule and potential site visits will depend on the availability of host government and business officials, specific goals of mission participants, and ground transportation.

May 8-15, 2024

Wednesday, May 8, 2024 | • Companies participating in optional program arrive in Bratislava via Vienna. • No evening programming due to state holiday.
Thursday, May 9, 2024 | • Market Briefing on opportunities in Slovakia. • One-on-one business matchmaking meetings. • Networking Reception. • Plenary meeting with public sector and/or industry association. • Transport to Prague (train).
Friday, May 10, 2024 | • Market Briefing on opportunities in Czech Republic. • One-on-one business matchmaking meetings. • Networking Reception. • Plenary meeting with public sector and/or related industry association. • Site visit to be requested.
Saturday-Sunday, May 11-12, 2024 | • Transport to Munich (train or air).
Monday, May 13, 2024 | • Official Trade Mission Program Commences. • IFAT and Trade Mission programming. • Reception at the State Chancery.
Tuesday, May 14, 2024 | • IFAT and Trade Mission programming. • Networking Breakfast.
Wednesday, May 15, 2024 | • IFAT and Trade Mission programming. • Official Trade Mission Program Concludes. Delegates may choose to continue attending IFAT throughout the week or depart.

Participation Requirements

All parties interested in participating in the trade mission must complete and submit an application package for consideration by the Department of Commerce. All applicants will be evaluated on their ability to meet certain conditions and best satisfy the selection criteria as outlined below. A minimum of 10 and maximum of 15 firms and/or trade associations will be selected to participate in the core mission at IFAT in Munich, Germany on a rolling basis. When applying to the mission, applicants will be able to indicate their interest in participating in the optional program to Czech Republic and Slovakia. A minimum of 3 and maximum of 5 firms and/or trade associations will be selected to participate in the optional program based on their expressed interest and market suitability.

Fees and Expenses

After a firm or trade association has been selected to participate in the mission, a payment to the Department of Commerce in the form of a participation fee is required. The participation fee for the U.S. Environmental Technologies Business Development Mission will be $850 for SMEs and $1,600 for large firms or trade associations. The fee to participate in the optional program to Czech Republic and Slovakia will be $2,350 for SMEs and $5,000 for large firms or trade associations. The fee for each additional firm representative (large firm or SME/trade organization) to participate in any portion of the mission is $1,000. Expenses for travel, lodging, meals, and incidentals will be the responsibility of each mission participant. Interpreter and driver services can be arranged for additional cost.

If and when an applicant is selected to participate on a particular mission, a payment to the Department of Commerce in the amount of the designated participation fee above is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government-negotiated rates for hotel rooms during the optional program to Czech Republic and Slovakia. Due to high demand for hotel space in Munich during the IFAT show, participants may not have access to U.S. Government-negotiated rates for that portion of the mission. Applicants who are selected to the trade mission before December 15, 2023 may be able to participate in the U.S. Department of Commerce's reserved block of hotel rooms in Munich, Germany. Applicants selected after this date will be responsible for arranging their own accommodation in Munich. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any questions regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees accordingly, prepare an agenda for virtual activities, and notify the previously selected applicants with the option to opt-in to the new virtual program.

Timeframe for Recruitment and Applications

Mission recruitment will be conducted in an open and public manner, including publication in the Federal Register, posting on the Department of Commerce web page and other internet websites, press releases to general and trade media, direct mail, notices by industry trade associations and other multiplier groups, and publicity at industry meetings, symposia, conferences, and trade shows. Recruitment for the mission will begin immediately and conclude no later than January 12, 2024. The U.S. Department of Commerce will review applications and inform applicants of selection decisions on a rolling basis. Applications received after January 12, 2024, will be considered only if space and scheduling constraints permit. Due to high demand in Munich around the IFAT show, hotel space is extremely limited and prospective applicants are encouraged to apply as early as possible to ensure available hotel rooms.

Contacts

Megan Hyndman, Team Lead, Climate and Environmental Technologies, Office of Energy and Environmental Industries, Phone: +1-823-1839, Email: Megan.Hyndman@trade.gov.

Elizabeth Laxague, Global Environmental Technologies Team Leader, U.S. Commercial Service—Seattle, Phone: +1-206-406-8903, Email: Elizabeth.Laxague@trade.gov.

Sean Timmins, Principal Commercial Officer, U.S. Consulate in Munich—Germany, Phone: +49-151-6772-6689, Email: Sean.Timmins@trade.gov.

Richard Pales, Commercial Assistant, U.S. Embassy in Prague—Czech Republic, Phone: +420-257-022-397, Email: Richard.Pales@trade.gov.

Marian Volent, Head of U.S. Commercial Section, U.S. Embassy in Bratislava—Slovakia, Phone: +421-2-5922-5310, Email: Marian.Volent@trade.gov.

Donald Calvert, Desk Officer, Germany, Office of Central & Southeast Europe, Phone: (202) 482-9128, Email: Donald.Calvert@trade.gov.

Marie Geiger, Desk Officer, Czechia/Slovakia, Office of Central & Southeast Europe, Phone: (202) 482-6418, Email: Marie.Geiger@trade.gov.

Gemal Brangman,
Director, Trade Events Management Task Force.

[FR Doc. 2023-22397 Filed 10-6-23; 8:45 am]

BILLING CODE 3510-DR-P